DEPARTMENT OF DEFENSE

Office of the Secretary

Membership of the Performance Review Board

AGENCY: Office of the Secretary of Defense (OSD), Department of Defense (DoD).

ACTION: Notice of board membership.

SUMMARY: This notice announces the appointment of the DoD, OSD, Joint Staff, Defense Agencies, and DoD Field Activities, Performance Review Board (PRB) members, to include the U.S. Court of Appeals for the Armed Forces. The PRB shall provide fair and impartial review of Senior Executive Service and Senior Professional performance appraisals and make recommendations regarding performance ratings and performance awards to the Deputy Secretary of Defense.

DATES: The board membership is applicable beginning on September 30, 2024.

FOR FURTHER INFORMATION CONTACT: Ms. Laura E. Devlin Dominguez, Assistant Director for Office of the Secretary of Defense Senior Executive Management Office, Washington Headquarters Service, Department of Defense, (703) 693-8373.

SUPPLEMENTARY INFORMATION: The publication of PRB membership is required by 5 United States Code (U.S.C.) 4314(c)(4). In accordance with 5 U.S.C. 4314(c)(4), the following executives are appointed to the OSD PRB with specific PRB panel assignments being made from this group. Executives listed will serve a one-year renewable term, beginning September 30, 2024.

Office of the Secretary of Defense

Appointing Authority—Dr. Kathleen H. Hicks, Deputy Secretary of Defense

Principal Executive Representative—Ms. Jennifer C. Walsh

Chairperson—Mr. Kevin M. Mulvihill

PRB Panel Members

Robert P. Helfant

Fredrick E. Carr

Susan J. Goodyear

John M. Tenaglia

Serena Chan

Sandra (Liz) E. Clark

Brent C. Harvey

Pamela M. Franceschi

Raymond D. O'Toole, Jr.

Robert E. Irie

Krystyna M.A. Kolesar

Jaques Reifman

Jennifer L. Desautel

David T. Beckwith

Keith E. Buchholz

Leonard G. Litton

Efstathia Fragogiannis

Robert E. Thompson

Leigh E. Method

Christine M. Condon

John E. Kreul

Robert M. Brady

Lewis Ratchford, Jr.

Julia P. Sokol

Juanita M. Christensen

Christopher S. Argo

John G. Fiore

PRB Panel Members—Alternates

Laura J. Gross

David R. Kless

Karen A. Schultheis

Todd A. Srivcr

Tina M. Pierce

Shirley L. Reed

Rosalie W. Tinsley

William (Bill) G. Fitzhugh

Lee A. Kelley

Michael R. Odle

Yvette S. Weber

Mark S. Gorak

Raju H. Shah

Sudha Vyas

Monica C. Williams

Dated: November 5, 2024.
Stephanie J. Bost,
Alternate OSD Federal Register Liaison Officer, Department of Defense.

[FR Doc. 2024-25985 Filed 11-7-24; 8:45 am]

BILLING CODE 6001-FR-P